ENVIRONMENTAL PROTECTION AGENCY

40 CFR Part 180

[EPA-HQ-OPP-2019-0041; FRL-9993-93]

Receipt of Several Pesticide Petitions Filed for Residues of Pesticide Chemicals In or On Various Commodities (April 2019)

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before July 8, 2019.

ADDRESSES: Submit your comments, identified by the Docket Identification (ID) number and Pesticide Petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Registration Division (RD) (7505P), main telephone number: (703) 305-7090, email address: RDFRNotices@epa.gov; or Robert McNally, Biopesticides and Pollution Prevention Division (BPPD) (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Amended Tolerances for Non-Inerts

PP 8E8730. (EPA-HQ-OPP-2019-0205). Interregional Research Project No. 4 (IR-4), IR-4 Project Headquarters, Rutgers, The State University of NJ, 500 College Road East, Suite 201 W, Princeton, NJ 08540, requests to amend 40 CFR 180.697 by removing the established tolerances for residues of flutianil, (2Z)-2-[2-fluoro-5-(trifluoromethyl)phenyl]sulfanyl-2-[3-(2-methoxyphenyl)thiazolidin-2-ylidene]acetonitrile, including its metabolites and degradates, in or on the raw agricultural commodities Cantaloupe at 0.07 ppm; Cherry at 0.40 ppm; Cucumber at 0.20 ppm; Grape at 0.70 ppm; Squash at 0.05 ppm and Strawberry at 0.50 ppm. Contact: RD.

B. New Tolerance Exemptions for Inerts (Except Pips)

PP IN-11245. (EPA-HQ-OPP-2019-0129). Syngenta Crop Protection, LLC, P.O. Box 18300, Greensboro, NC 27419, requests to establish an exemption from the requirement of a tolerance for residues of ethylenebis(oxyethylene) bis[3-(5-tert-butyl-4-hydroxy-m-tolyl) propionate (CAS No. 36443-68-2) when used as a pesticide inert ingredient (stabilizer) in pesticide formulations under 40 CFR 180.910. The petitioner believes no analytical method is needed because it is not required for an exemption from the requirement of a tolerance. Contact: RD.

C. New Tolerance Exemptions for Non-Inerts (Except Pips)

1. PP 8F8697. (EPA-HQ-OPP-2019-0266). AgBiTech Pty Ltd., 8 Rocla Ct., Glenvale, Queensland 4350, Australia (c/o V.A. Forster Consulting, Inc., P.O. Box 4097, Wilmington, DE 19807), requests to establish an exemption from the requirement of a tolerance in 40 CFR part 180 for residues of the insecticide Autographa californica MNPV strain R3 in or on all food commodities. The petitioner believes no analytical method is needed because the petition requests an exemption from the requirement of a tolerance. Further, it is expected that, when used as proposed, Autographa californica MNPV strain R3 would not result in residues that are of toxicological concern. Contact: BPPD.

2. PP 8F8726. (EPA-HQ-OPP-2019-0183). Bi-PA nv, Technologielaan 7, B-1840 Londerzeel, Belgium (c/o SciReg, Inc., 12733 Director's Loop, Woodbridge, VA 22192), requests to establish an exemption from the requirement of a tolerance in 40 CFR part 180 for residues of the fungicide Trichoderma atroviride strain SC1 in or on all food commodities. The petitioner believes no analytical method is needed because of its request for an exemption from the requirement of a tolerance for residues of Trichoderma atroviride strain SC1; therefore, the requirement to provide an analytical method for the detection of residues of Trichoderma atroviride strain SC1 in agricultural commodities or processed food is not applicable. Contact: BPPD.

D. New Tolerances for Non-Inerts

1. PP 4F8338. (EPA-HQ-OPP-2018-0599). Dow AgroSciences LLC, 9330 Zionsville Road, Indianapolis, IN 46268, requests to establish a tolerance in 40 CFR part 180 for residues of the insecticide, sulfoxaflor (1-(6-trifluoromethylpyridin-3-yl)ethyl)(methyl)-oxido-λ4-sulfanylidenecyyanamide), in or on rice, grain at 5 parts per million (ppm); rice, straw at 5 ppm; rice, hulls at 14 ppm; and avocado, whole fruit at 0.15 ppm. The Analytical method 091116, “Enforcement Method for the Determination of Sulfoxaflor (XDE-208) and its Main Metabolites in Agricultural Commodities using Offline Solid-Phase Extraction and Liquid Chromatography with Tandem Mass Spectrometry Detection” was validated on a variety of plant matrices. The method was validated over the concentration range of 0.010-5.0 mg/kg with a validated limit of detection (LOD) of 0.003 mg/kg and limit of quantitation (LOQ) of 0.010 mg/kg. Contact: RD.

2. PP 8E8672. (EPA-HQ-OPP-2008-0771). Valent U.S.A. LLC, P.O. Box 8025, Walnut Creek, CA 94596, requests to establish a tolerance in 40 CFR part 180 for residues of the insecticide, clothianidin, in or on persimmon at 0.5 parts per million (ppm). The liquid chromatography/mass spectroscopy/mass spectroscopy (LC/MS/MS analysis) is used to measure and evaluate the chemical clothianidin, (E)-1-(2-chloro-1,3-thiazol-5-ylmethyl)-3-methyl-2-nitroguanidine. Contact: RD.

3. PP 8E8731. (EPA-HQ-OPP-2019-0070). Interregional Research Project No. 4 (IR-4), IR-4 Project Headquarters, Rutgers, The State University of NJ, 500 College Road East, Suite 201 W, Princeton, NJ 08540, requests to amend 40 CFR part 180.650 by establishing tolerances for residues of isoxaben, N-[3-(1-ethyl-1-methylpropyl)-5-isoxazolyl]-2, 6-dimethoxybenzamide in or on the raw agricultural commodities Hop, dried cones at 0.01 parts per million (ppm) and Caneberry subgroup 13-07A at 0.01 ppm. Acceptable analytical methods are available for enforcement purposes. Contact: RD.

4. PP 8F8695. (EPA-HQ-OPP-2018-0718). Syngenta Crop Protection, LLC, P.O. Box 18300, Greensboro, NC 27419 requests to establish a tolerance in 40 CFR part 180.475 for residues of the fungicide difenoconazole in or on vegetable, leaves of root and tuber, group 2 at 8.0 parts per million (ppm) and vegetable, root, subgroup 1A at 0.60 ppm. The gas chromatography equipped with a nitrogen-phosphorous detector and the liquid chromatography (LC)/mass spectrometry (MS)/MS) method are used to measure and evaluate the chemical difenoconazole. Contact: RD.

5. PP 8F8729. (EPA-HQ-OPP-2019-0130). Bayer CropScience, 2 T.W. Alexander Drive, P.O. Box 12014, Research Triangle Park, NC 27709, requests to establish a tolerance in 40 CFR part 180 for residues of the fungicide, trifloxystrobin (benzeneacetic acid, (E,E)-α-(methoxyimino)-2-[[[[1-[3-(trifluoromethyl) phenyl]ethylidene]amino]oxy]methyl]-methyl ester) and the free form of its acid metabolite CGA-321113 ((E,E)-methoxyimino-[2-[1-(3-trifluoromethyl-phenyl)-ethylideneaminooxymethyl]-phenyl]acetic acid) in or on dried shelled pea and bean (except soybean) subgroup 6C at 0.06 parts per million (ppm). The analytical method involves solvent mixtures and solvent to matrix ratio, deuterated internal standards, and Liquid Chromatography/Mass Spectrometry-Mass Spectrometry (LC/MS-MS) with an electrospray interface, operated in the positive ion mode. Residues of trifloxystrobin are quantified by high-pressure liquid chromatography/triple stage quadrupole mass spectrometry (LC/MS/MS) using stable-labeled internal standards. Contact: RD.

6. PP 9F8733. (EPA-HQ-OPP-2019-0062). Syngenta Crop Protection, 410 Swing Road, P.O. Box 18300, Greensboro, NC 27419, requests to establish a tolerance in 40 CFR part 180 for residues of the fungicide, mandipropamid: 4-chloro-N-[2-[3-methoxy-4-(2-propynyloxy) phenyl]ethyl]-alpha-(2-propynyloxy)-benzeneacetamide, in or on cocoa bean at 0.05 parts per million (ppm). The analytical method involves extraction of mandipropamid residues from crop samples by homogenization with acetonitrile:water (80:20 v/v). Extracts are centrifuged and aliquots diluted with water prior to being cleaned-up using polymeric solid-phase extraction cartridges. Residues of mandipropamid are quantified using high performance LC-MS/MS. Contact: RD.

7. PP 9F8736. (EPA-HQ-OPP-2019-0128). Syngenta Crop Protection, LLC, P.O. Box 18300, Greensboro, NC 27419, requests to establish a tolerance in 40 CFR part 180.685 for residues of the fungicide oxathiapiprolin (1-[4-[4-[5-(2,6-difluorophenyl)-4,5-dihydro-3-isoxazolyl]-2-thiazolyl]-1-piperidinyl]-2-[5-methyl-3-(trifluoromethyl)-1H-pyrazol-1-yl]-ethanone), in or on bushberry crop subgroup 13-07B at 0.5 parts per million (ppm); tree nuts, crop group 14-12 at 0.01 ppm; and almond hulls at 0.05 ppm. High-pressure liquid chromatography with tandem mass-spectrometry (LC-MS/MS) detection is used to measure and evaluate residues of the chemical oxathiapiprolin. Contact: RD.

8. PP 9F8744. (EPA-HQ-OPP-2019-0273). Syngenta Crop Protection, LLC, P.O. Box 18300, Greensboro, NC 27419, requests to establish rotational crop tolerances in 40 CFR part 180 for residues of the fungicide, pydiflumetofen, in or on rice, grain at 0. 01 parts per million (ppm); Non-grass animal feed (crop group 18), forage at 0.01 ppm; non-grass animal feed (crop group 18), hay at 0.03 ppm; grasses, forage at 0.15 ppm; grasses, hay at 0.50 and grasses, straw at 0.04 ppm. The QuEChERS method is used to measure and evaluate the chemical in plant commodities. Contact: RD.

Authority: 21 U.S.C. 346a et seq.

Dated: May 20, 2019.
Delores Barber,
Director, Information Technology and Resources Management Division, Office of Pesticide Programs.

[FR Doc. 2019-11930 Filed 6-6-19; 8:45 am]

BILLING CODE 6560-50-P